DEPARTMENT OF HOMELAND SECURITY

Coast Guard

33 CFR Part 117

[CGD01-07-048]

Drawbridge Operation Regulations; Charles River and Its Tributaries, Boston, MA

AGENCY: Coast Guard, DHS.

ACTION: Notice of temporary deviation from regulations.

SUMMARY: The Commander, First Coast Guard District, has issued a temporary deviation from the regulation governing the operation of the Massachusetts Bay Commuter Railroad (MBCR)/Amtrak Bridge across the Charles River, mile 0.8, at Boston, Massachusetts. Under this temporary deviation, in effect for four weekends, the MBCR/Amtrak Bridge may remain in the closed position for five consecutive hours, each Friday evening from 11:59 p.m. through to 5 a.m. Saturday morning. From 5 a.m. on each Saturday morning through 11:59 p.m. on each Sunday evening the bridge will open on signal on the hour only. Vessels that can pass under the draw without a bridge opening may do so at all times. This deviation is necessary to facilitate bridge track repairs.

DATES: This deviation is effective from April 28, 2007 through May 20, 2007.

ADDRESSES: Materials referred to in this document are available for inspection or copying at the First Coast Guard District, Bridge Branch Office, 408 Atlantic Avenue, Boston, Massachusetts 02110, between 7 a.m. and 3 p.m., Monday through Friday, except Federal holidays. The telephone number is (617) 223-8364. The First Coast Guard District Bridge Branch Office maintains the public docket for this temporary deviation.

FOR FURTHER INFORMATION CONTACT: John McDonald, Project Officer, First Coast Guard District, at (617) 223-8364.

SUPPLEMENTARY INFORMATION: The MBCR/Amtrak Bridge, across the Charles River, mile 0.8, at Boston, Massachusetts, has a vertical clearance in the closed position of 3 feet at mean high water and 12 feet at mean low water. The existing drawbridge operation regulations are listed at 33 CFR 117.591(c).

The owner of the bridge, the Massachusetts Bay Commuter Railroad (MBCR), requested a temporary deviation to facilitate repairs to the bridge rails.

Under this temporary deviation, in effect from Friday, April 27, 2007 through Sunday May 20, 2007, the MBCR/Amtrak Bridge need not open for the passage of vessel traffic from 11:59 p.m. on each Friday evening through 5 a.m. each Saturday morning. From 5 a.m. each Saturday morning through 11:59 p.m. each Sunday evening the bridge shall open on signal, on the hour only. Vessels that can pass under the bridge without a bridge opening may do so at all times.

This deviation from the operating regulations is authorized under 33 CFR 117.35.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

Dated: April 26, 2007.
Gary Kassof,
Bridge Program Manager, First Coast Guard District.

[FR Doc. E7-8612 Filed 5-3-07; 8:45 am]

BILLING CODE 4910-15-P